DEPARTMENT OF HOMELAND SECURITY

Federal Emergency Management Agency

[Docket ID FEMA-2012-0025]

Plantings Associated with Eligible Facilities (RP9524.5)

AGENCY: Federal Emergency Management Agency, DHS.

ACTION: Notice of availability; request for comments.

SUMMARY: The Federal Emergency Management Agency (FEMA) is accepting comments on Recovery Policy, RP 9524.5, Plantings Associated with Eligible Facilities. DATES: Comments must be received by September 5, 2012.

ADDRESSES: Comments must be identified by docket ID FEMA-2012-0025 and may be submitted by one of the following methods:

Federal eRulemaking Portal: http://www.regulations.gov. Follow the instructions for submitting comments. Please note that this proposed policy is not a rulemaking and the Federal Rulemaking Portal is being utilized only as a mechanism for receiving comments.

Mail: Regulatory Affairs Division, Office of Chief Counsel, Federal Emergency Management Agency, Room 835, 500 C Street SW., Washington, DC 20472-3100.

FOR FURTHER INFORMATION CONTACT: Jurice Hardin, Public Assistance Division, via email at Jurice.Hardin@dhs.gov or by facsimile at (202) 646-3304. If you have any questions, please call Ms. Hardin at (202) 646-2931, Federal Emergency Management Agency, 500 C Street SW., Washington, DC 20472.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link on the homepage of www.regulations.gov.

You may submit your comments and material by the methods specified in the ADDRESSES section. Please submit your comments and any supporting material by only one means to avoid the receipt and review of duplicate submissions.

Docket: The proposed policy is available in docket ID FEMA-2012-0025. For access to the docket to read background documents or comments received, go to the Federal eRulemaking Portal at http://www.regulations.gov and search for the docket ID. Submitted comments may also be inspected at FEMA, Office of Chief Counsel, Room 835, 500 C Street SW., Washington, DC 20472.

II. Background

Generally, plantings such as trees, shrubs, and other vegetation are not eligible for replacement under Section 406 of the Robert T. Stafford Relief and Emergency Disaster Assistance Act (Stafford Act) (Repair, Restoration, and Replacement of Damaged Facilities). FEMA acknowledges the economic and environmental benefits of replacing trees, shrubs, and other plantings, but has determined that replacement of trees, shrubs, and other plantings damaged or destroyed by a disaster does not impact essential services. This policy defines ineligible work related to trees, shrubs, and other plantings, and defines the limited eligibility for replacement of grass and sod associated with facilities eligible for repair and restoration.

Limited instances when plantings are eligible include grass and sod replacement if it is an integral part of the repair of an eligible recreational facility (e.g., publicly owned football, soccer, baseball fields, golf courses); plantings when they are part of an emergency protective measure or the repair of an eligible facility for the purposes of stabilizing slopes (including dunes on eligible improved beaches), erosion control, or minimizing sediment runoff; and plantings required for the mitigation of environmental impacts such as impacts to wetlands or endangered species habitat. Eligibility of the above plantings is limited to plantings that are required under a Federal, State, Tribal, or local government code or regulation.

This policy was previously issued on July 18, 2007. The policy was reviewed according to the established schedule for FEMA Public Assistance policies.

FEMA seeks comment on the proposed policy, which is available online at http://www.regulations.gov in docket ID FEMA-2012-0025. Based on the comments received, FEMA may make appropriate revisions to the proposed policy. Although FEMA will consider any comments received in the drafting of the final policy, FEMA will not provide a response to comments document. When or if FEMA issues a final policy, FEMA will publish a notice of availability in the Federal Register and make the final policy available at http://www.regulations.gov.

Authority: 42 U.S.C. 5121-5207.

Dated: August 1, 2012.
David J. Kaufman,
Director, Office of Policy and Program Analysis, Federal Emergency Management Agency.

[FR Doc. 2012-19132 Filed 8-3-12; 8:45 am]

BILLING CODE 9111-23-P